NUCLEAR REGULATORY COMMISSION

[Docket Nos. 52-027 and 52-028; NRC-2008-0441]

South Carolina Electric and Gas Company Acting for Itself and as Agent for the South Carolina Public Service Company (Also Refered to as Santee Cooper) Virgil C. Summer Nuclear Station Units 2 and 3 Combined License Application; Notice of an Extension to the Environmental Scoping Period

South Carolina Electric and Gas Company (SCE&G) acting for itself and as an agent for South Carolina Public Service Company (also referred to as Santee Cooper) has submitted an application for combined licenses (COLs) to build Units 2 and 3 at its Virgil C. Summer Nuclear Station (VCSNS) site, located on approximately 3,600 acres in Fairfield County, South Carolina, on the Broad River, approximately 15 miles west of the county seat of Winnsboro and 26 miles northwest of Columbia, South Carolina. The application for the COLs was submitted to the U.S. Nuclear Regulatory Commission (NRC) on March 27, 2008, pursuant to Title 10 of the Code of Federal Regulations (10 CFR) Part 52.

A notice of intent to prepare an environmental impact statement (EIS) and conduct scoping was published in the Federal Register on January 5, 2009 (74 FR 323-324) and scoping meetings were held in Winnsboro and Blair, South Carolina on January 27 and 28, 2009, respectively. After the meetings, Mayor Gregrey Ginyard of Jenkinsville, South Carolina (located approximately 2 miles from the proposed VCSNS Units 2 and 3) requested an extension of the scoping period. NRC staff has concluded that Mayor Ginyard's reasonable request, coupled with comments provided during the scoping meetings, amounts to a special circumstance that warrants an extension of the scoping period.

The purpose of this notice is to inform the public that the NRC is extending the current scoping period by 30 days. Members of the public may send written comments on the scope of the VCSNS COLs environmental review to the Chief, Rulemaking, Directives and Editing Branch, Office of Administration, Mailstop TWB-05-B01M, U.S. Nuclear Regulatory Commission, Washington, DC 20555-0001, and should cite the publication date and page number of this Federal Register notice. To ensure that comments will be considered, written comments must be postmarked by April 6, 2009. Electronic comments may be sent by e-mail to the NRC at Summer.COLEIS@nrc.gov. Electronic submissions must be sent no later than April 6, 2009, to ensure that they will be considered.

Information about the proposed action, the EIS, and the scoping process may be obtained from Ms. Patricia Vokoun or Mr. Paul Michalak at 1-800-368-5642, extensions 3470 or 7612, respectively; at the U.S. Nuclear Regulatory Commission, Mailstop T-6D32, Washington, DC 20555-0001; or via e-mail at Patricia.Vokoun@nrc.gov or Paul.Michalak@nrc.gov.

Dated at Rockville, Maryland, this 24th day of February 2009.
For the Nuclear Regulatory Commission.
Nilesh Chokshi,
Deputy Director, Division of Site and Environmental Reviews, Office of New Reactors.

[FR Doc. E9-4336 Filed 2-27-09; 8:45 am]

BILLING CODE 7590-01-P